DEPARTMENT OF LABOR

Office of the Secretary

Combating Exploitive Child Labor Through Education in Angola; Modification

AGENCY: Bureau of International Labor Affairs, Department of Labor.

ACTION: Modification.

SUMMARY: In notice document 05-10620 beginning on page 30787 in the issue of Friday, May 27, 2005, make the following modification:

On page 30787, in the second column, under the heading “Agency”, the language, “Key Dates: Deadline for Submission of Application is July 11, 2005.”, should be changed to read, “Key Dates: Deadline for Submission of Application is July 15, 2005.”.

On page 30787, in the second column, first sentence of the “Summary”, the language “The U.S. Department of Labor, Bureau of International Labor Affairs, will award up to U.S. $2 million through one or more cooperative agreements to an organization or organizations* * *”, should be changed to read, “The U.S. Department of Labor, Bureau of International Labor Affairs, will award up to U.S. $4 million through one or more cooperative agreements to an organization or organizations* * *”.

On page 30791, in the second column, first sentence of the second paragraph of Section II “Award Information”, the language, “Up to U.S. $2 million will be awarded under this solicitation”, should be changed to read, “Up to U.S. $4 million will be awarded under this solicitation.”

Dated: June 21, 2005.
Lisa Harvey,
Grant Officer.

[FR Doc. 05-12527 Filed 6-23-05; 8:45 am]

BILLING CODE 4510-28-M